ENVIRONMENTAL PROTECTION AGENCY

[OPP-2002-0033; FRL-7179-4]

Propanil; Notice of Pesticide Tolerance Reassessment Decision and Availability of Risk Assessments

AGENCY: Environmental Protection Agency (EPA).

ACTION: Notice.

SUMMARY: This notice represents the Agency's tolerance reassessment decision for propanil. It announces the Agency's tolerance reassessment decision and releases the human health and ecological effects risk assessments and related documents supporting this decision to the public. The Agency's reassessment of dietary risk, including public exposure through food and drinking water as required by the Federal Food, Drug and Cosmetic Act (FFDCA) indicates that propanil poses no risk concerns; therefore, no risk mitigation is needed and no further actions related to dietary risk are warranted at this time. The Agency will complete a Reregistration Eligibility Decision (RED) document for propanil later in 2002, which will address any possible risk to workers and the environment and any confirmatory data needs.

DATES: Public comments on the tolerance reassessment decision for propanil are requested on or before July 5, 2002. In the absence of substantive comments, the tolerance reassessment decision will be considered final. Comments on the human health and ecological effects risk assessments must be submitted on or before August 5, 2002.

ADDRESSES: Comments, may be submitted by mail, electronically, or in person. Please follow the detailed instructions for each method as provided in Unit I. of the Supplementary Information. To ensure proper receipt by EPA, it is imperative that you identify docket ID number OPP-2002-0033 in the subject line on the first page of your response.

FOR FURTHER INFORMATION CONTACT: Carmen Rodia, Chemical Review Manager, Special Review and Reregistration Division (7508C), Office of Pesticide Programs, Environmental Protection Agency, 1200 Pennsylvania Avenue, NW., Washington, DC 20460; telephone number: (703) 306-0327; e-mail address: rodia.carmen@epa.gov.

SUPPLEMENTARY INFORMATION:

I. General Information

A. Does this Action Apply to Me?

This action is directed to the public in general, nevertheless, a wide range of stakeholders will be interested in obtaining information on propanil, including environmental, human health and agricultural advocates; the chemical industry; pesticide users; and members of the public interested in the use of pesticides on food. Since other entities also may be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. On the Home Page select “Laws and Regulations,” “Regulations and Proposed Rules” and then look up the entry for this document under the “Federal Register—Environmental Documents.” You can also go directly to the Federal Register listings at http://www.epa.gov/fedrgstr/. To access the OPPTS Harmonized Guideline referenced in this document, go directly to the guidelines at http://www.epa.gov/opptsfrs/home/guidelin.htm.

In addition, copies of the documents related to the propanil risk assessments and tolerance reassessment decision released to the public may be accessed at http://www.epa.gov/pesticides/reregistration/status.htm.

2. In person. The Agency has established an official record for this action under docket ID number OPP-2002-0033. The official record consists of the documents specifically referenced in this action and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Room 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0033 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described in this unit. Do not submit any information electronically that you consider to be CBI. Electronic comments must be submitted as an ASCII file avoiding use of special characters and any form of encryption. Comments and data will also be accepted on standard disks in WordPerfect 6.1/8.0 or ASCII file format. All comments in electronic form must be identified by docket ID number OPP-2002-0033. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket ID number assigned to this action in the subject line on the first page of your response. You may also provide the name, date, and Federal Register citation.

II. Tolerance Reassessment and Risk Management Decision

The Agency has completed its assessment of the dietary risk of propanil (3',4'-dichloropropionanilide) and its principle metabolic degradate 3,4-dichloroaniline (3,4-DCA), and has determined that the level of dietary risk from exposure as a result of currently registered uses of propanil is not of concern to the Agency. Therefore, no mitigation measures are needed and no further actions are warranted at this time. Tolerances for the registered uses of propanil are reassessed. The Agency is still reviewing any possible risk to workers and the environment and, if risk mitigation is necessary, the Agency will provide its risk management decision, as well as any confirmatory data requirements, in the RED scheduled for later in 2002.

The Agency may determine that further action is necessary, once it is determined whether the anilides, such as propanil, share a common mechanism of toxicity as a group or with other neuroendocrine-disrupting chemicals. Such an incremental approach to the tolerance reassessment process is consistent with the Agency's goal of improving transparency in implementing FFDCA. For propanil, the established tolerances remain in effect until such time as a full reassessment of the cumulative risk from all anilide pesticides, such as propanil, may be needed and is completed.

III. Background

This notice announces the tolerance reassessment decision for propanil. This decision has been developed as part of the public participation process that EPA and the United States Department of Agriculture (USDA) are using to involve the public in the reassessment of pesticide tolerances under FFDCA. EPA must review tolerances and tolerance exemptions that were in effect when the Food Quality Protection Act (FQPA) was enacted in August of 1996 to ensure that these existing pesticide residue limits for food and feed commodities meet the safety standard of the new law. Propanil was first registered in 1973 and is therefore subject to both reregistration and tolerance assessment under the FQPA amendments to FFDCA.

The FQPA amendments to FFDCA requires EPA to review all the tolerances for registered chemicals in effect on or before the date of the enactment. In reviewing these tolerances, the Agency must consider, among other things, aggregate risks from nonoccupational sources of pesticide exposure, whether there is increased susceptibility to infants and children and the cumulative effects of pesticides with a common mechanism of toxicity. The tolerances are considered reassessed once the safety finding has been made or a revocation occurs.

FFDCA requires that the Agency, when considering whether to establish, modify, or revoke a tolerance, consider “available information” concerning the cumulative effects of a particular pesticide's residues and “other substances that have a common mechanism of toxicity.” The Agency does not have sufficient information at this time to determine whether the anilide pesticides, such as propanil, share a common mechanism of toxicity.

The Agency's human health findings for the pesticide propanil, discussed in Unit IV., are presented fully in the document: “Propanil-HED Revised Human Health Risk Assessment, February 28, 2002.” The risk assessments and other documents pertaining to the propanil tolerance reassessment decision are available for viewing in the public docket (see Unit I.B.2.) or on the Agency's website at http://www.epa.gov/pesticides/reregistration/status.htm.

IV. Use Summary

Propanil is a selective post-emergent herbicide registered on rice, barley, oats, and spring wheat to control broadleaf and grass weeds in commercial settings. Propanil is also registered (but not currently marketed) for turf use at commercial sod farms. There are no existing or proposed residential uses of propanil products.

Propanil is formulated as an emulsifiable concentrate liquid (16.6%-58% active ingredient), a water dispersable granule (or dry flowable) (59.6%-81% active ingredient), a soluble concentrate liquid (41.2%-80.2% active ingredient), and a flowable concentrate (41.2% active ingredient). Propanil is typically applied as a broadcast treatment by groundboom sprayers and aerial equipment.

The estimate for total domestic use (annual average) is approximately 7 million pounds of active ingredient on a total of approximately 2 million acres treated. The crop with the highest use is rice, which accounts for approximately 99% of the annual average. Fifty to seventy percent of the U.S. rice crop is treated with propanil. Small grains comprise the remaining 1% of the annual average.

V. Dietary Food Risks

EPA has not assessed acute dietary risk for propanil since no appropriate endpoint attributable to a single exposure (dose) could be identified. An acute dietary reference dose was not established.

Chronic dietary risk is calculated by using the average consumption value for food and average residue values on those foods. A risk estimate that is less than 100% of the chronic population adjusted dose (cPAD), the dose at which an individual could be exposed over the course of a lifetime and no adverse health effects would be expected, does not exceed the Agency's level of concern. The cPAD is the chronic dietary reference dose (RfD) adjusted for the FQPA safety factor.

Chronic risk estimates from exposures to propanil in food do not exceed the Agency's level of concern (i.e., they are less than 100% of the cPAD). The chronic dietary (food only) risk estimate is 13% of the cPAD, for the most highly exposed population subgroup, all infants (<1 year).

The toxicity endpoint for the chronic dietary assessment is decreased hemoglobin, red blood cell count and/or packed cell volumes and is calculated using the lowest observed adverse effect level (LOAEL) (9 milligrams/kilogram/day (mg/kg/day)) from the chronic/carcinogenicity study in the rat (no observed adverse effect level (NOAEL)) was identified).

The FQPA safety factor of 10x was retained for chronic exposures based on increased susceptibility following prenatal and postnatal exposure, the lack of a developmental neurotoxicity study; and neuroendocrine disruption in the rat. The uncertainty factor (UF) used in the RfD derivation is 300x. The UF is 100x (10x for interspecies extrapolation and 10x for intraspecies variability). An additional UF of 3x is applied for the use of a LOAEL instead of a NOAEL for an overall UF of 3,000x. Thus, the chronic RfD is 0.03 mg/kg/day and the cPAD is 0.003 mg/kg/day.

The propanil chronic dietary exposure assessment was conducted using the Dietary Exposure Evaluation Model (DEEM™) Software Version 7.73. The DEEM™ analysis evaluated the individual food consumption as reported by respondents in the USDA's Continuing Surveys of Food Intake by Individuals (CSFII), 1989-1992, and accumulated exposure to the chemical for each commodity. To calculate chronic dietary risk from propanil use on food, EPA used the DEEM™, along with average residue estimated from field trial data, and assumed 70% of the rice crop was treated with propanil. Field trial data are generally considered to be an upper-bound estimate of actual residues, and 70% is also a high-end estimate of the percent of the present rice crop treated. Thus, actual dietary risk is likely to be less than indicated by EPA's assessment. Food and Drug Administration (FDA) monitoring data were available, but not sufficient, due to lack of analysis for 3,4-DCA.

VI. Dietary Drinking Water Risks

Drinking water exposure to pesticides can occur through ground water and surface water contamination. EPA considers both acute (1 day) and chronic (lifetime) drinking water risks and uses either modeling or actual monitoring data, if available, to estimate those risks. To determine the maximum allowable contribution of water allowed in the diet, EPA first looks at how much of the overall allowable risk is contributed by food, then calculates a “drinking water level of comparison” (DWLOC) to determine whether modeled or monitoring estimates exceed this level. In the case of propanil, no acute drinking water assessment has been conducted, because no acute endpoint was identified. The calculated chronic DWLOCs for propanil are 26 parts per billion (ppb) for children, 86 ppb for adult females, and 100 ppb for adult males.

Available data indicate that propanil will not persist in the environment and is in the medium mobility class for sand, sandy loam and clay loam soils, based on available mobility studies. Due to its mobility, propanil could possibly reach ground water but due to its rapid metabolism in a water/soil matrix, it is unlikely to persist for a sufficient amount of time to leach in significant quantities. (The possible exception are sites of extreme vulnerability and low metabolic capacity which would most likely occur only for terrestrial uses. However, if propanil does reach ground water in these vulnerable areas, it is expected to be stable). Propanil and its principle metabolic degradate, 3,4-DCA, and residues convertible to 3,4-DCA are the residues of concern for the drinking water risk assessment.

Monitoring data for propanil residues in ground water and surface water are available but not adequate to develop estimated environmental concentrations (EECs) for the aggregate dietary (food and water) risk assessment. Although not targeted to specific propanil use areas, United States Geological Survey (USGS) monitoring data do provide some information on the magnitude and frequency of propanil and 3,4-DCA detections. Propanil was found in about 3% of the 1,560 surface water samples analyzed with a maximum concentration of 2 parts per billion (ppb). 3,4-DCA was found in about 50% of the 68 samples with a maximum concentration of 8.9 ppb. All detects are well below the DWLOCs. Models have been used to estimate ground water and surface water concentrations expected from normal agricultural use.

Estimated surface water EECs, a range of 6-72 ppb, are below the DWLOC for all population subgroups except for children at the upper-bound EEC of 72 ppb. This subpopulation of children could be an area of concern because exposure estimates for this group exceed the DWLOC; however, the Agency believes that the concerns have been addressed by the conservative assumptions (field trial residue levels and 70% crop treated) used in the chronic dietary calculation. In this case, the Agency concludes that actual residues of propanil per se and 3,4-dichloroaniline (3,4-DCA combined) are likely to be less than the estimated DWLOC; and a conclusion can be drawn that no adverse toxicological effect will occur due to aggregate chronic exposure. Estimated drinking water concentrations are based on EPA's Pesticide Root Zone Model/Exposure Analysis Modeling System (PRZM/EXAMS) screening model, which is a Tier II assessment that provides more refined, less upper-bound assumptions. The range of EECs represents different rice growing areas and normal versus overflow release.

Estimated ground water concentrations are based on the Screening Concentration in Ground Water (SCI-GROW) model, which is a Tier I assessment that provides a high-end estimate. The drinking water EEC for ground water (0.35 ppb) is below the DWLOC for all population subgroups.

VII. Aggregate Risks

The aggregate risk assessment for propanil examines the combined risk from exposure through food and drinking water only. Chronic residential exposures are not expected because there are no residential uses for propanil and, thus, are not included in the aggregate risk assessment. As detailed above, for propanil the only interval of exposure to be assessed is chronic (1 year or more), and the only route of exposure to be assessed is oral (food and water). Generally, combined risks from these exposures that are less than 100% of the cPAD, are not considered to be a risk concern.

EPA has also evaluated the potential aggregate exposure to 3,4-DCA. Available data indicates that 3,4-DCA is a major metabolic degradate of propanil. 3,4-DCA is also a metabolite of linuron and diuron, but to a lesser extent. The Agency's Metabolism Assessment Review Committee does not recommend aggregating residues of 3,4-DCA for the propanil, linuron, and diuron risk assessments. 3,4-DCA is a significant residue of concern for propanil, but is not a residue of concern per se for linuron or diuron. Submitted data indicate that the maximum amount of 3,4-DCA formed from propanil is approximately 50% of propanil initially applied, based on results from the aerobic soil metabolism study. Neither diuron nor linuron metabolize to 3,4-DCA in appreciable amounts (less than 1% detection rate) of the parent compound in animal, plant, or water metabolism studies.

The registered uses for propanil, linuron, and diuron result in minimal co-occurrence of use. That is, there is very little overlap of use patterns and the use patterns are geographically limited for each chemical. Therefore, the risk assessments for each individual chemical fully assess the risks posed by the parent chemical and the metabolite, 3,4-DCA, individually.

VIII. Residential Risk

Propanil is not registered for residential (home) use, nor is it used in or around public buildings, schools, or recreational areas where children might be exposed. Thus, there is no residential exposure to aggregate with the dietary exposure.

The use of propanil on turf is restricted to commercial sod farms only. Although propanil-treated sod may eventually be used in residential settings (i.e., residential lawns), propanil residues are not expected to exceed levels of concern for residential post-application risk. Since the proposed use of propanil on turf is post-emergent, applied at sod farms early in the turf growing season (well before harvest), the Agency concludes that the amount of time is adequate to allow residue dissipation to a level that would not pose any significant exposure to residents.

IX. Occupational Risk and Ecological Risk

The Agency will assess occupational and ecological risks, any necessary mitigation as well as the need for confirmatory data in the forthcoming RED.

X. Tolerance Reassessment Summary

The existing tolerances for residues of propanil in/on plant, animal and processed commodities are established under 40 CFR 180.274(a)(1) and (a)(2). These tolerances are currently expressed as the combined residues of propanil (3',4'-dichloropropionanilide) and its metabolites (calculated as propanil). The Agency is now recommending that the propanil tolerance expression for plant and animal commodities be revised to specify that the residues of concern are propanil and its related compounds convertible to 3,4-DCA. To eliminate redundancy, the propanil tolerances separately listed under 40 CFR 180.274(a)(2) should be removed and 40 CFR 180.274(a)(1) should be redesignated as 40 CFR 180.274(a).

The Agency has updated the list of raw agricultural and processed commodities and feedstuffs derived from crops (Table 1, OPPTS GLN 860.1000). As a result of these changes, propanil tolerances for certain raw agricultural commodities that have been removed from the livestock feed table need to be revoked. A number of tolerances are being revised (increased or decreased) to reflect updates to the propanil data base based on the submission of new livestock feeding studies, analytical methods, processing data, recovery methods, and/or field trial residue data. Additionally, some commodity definitions must be updated and/or corrected. A summary of propanil tolerance reassessments is presented below in Table 1.

Adequate residue data have been submitted to support the established tolerances for barley, grain; cattle, fat; goat, fat; hog, fat; horse, fat; milk; oat, grain; poultry, meat; rice, straw; sheep, fat; and wheat, straw. For these commodities, the established tolerances were found to be appropriate and will not change as part of this tolerance reassessment.

The established tolerance levels for barley, straw; oat, straw, and wheat, straw must be increased to reflect new recovery procedures. The established tolerance levels for cattle, meat byproducts; egg; goat, meat byproducts; hog, meat byproducts; horse, meat byproducts; poultry, meat byproducts, and sheep, meat byproducts have been increased based on the results of livestock feeding studies and revised dietary burden (exposure) to propanil. For rice, grain; rice, bran, and rice, hull, the existing tolerance levels were increased since data demonstrate that residues concentrate in bran and hulls when rice is processed, based on a reevaluation of crop field trial data.

The available data indicate that the tolerance levels can be decreased for cattle, meat; goat, meat; hog, meat; horse, meat; poultry, fat; and sheep, meat based on the results of a ruminant feeding study and a revised dietary burden.

Group commodity definitions will be revised as noted in Table 1. The established tolerances for rice mill fractions and rice polishings should be revoked according to Table 1 of OPPTS GLN 860.1000, since these commodities are no longer considered to be significant livestock feed items. As a result, the tolerances are no longer needed.

Tolerances To Be Proposed Under 40 CFR 180.274(a)

Adequate residue data have been submitted for the establishment of propanil tolerances for crayfish; oat, forage, and wheat, forage based on the crayfish metabolism study and wheat forage data.

Inadequate residue data are available for the establishment of propanil tolerances for barley, hay; oat, hay, and wheat, hay. The requested data for wheat, hay will be translated to barley, hay, and oat, hay.

Tolerances Currently Listed Under 40 CFR 180.274(a)(2)

The tolerances currently listed in 40 CFR 180.274(a)(2) are inadvertent duplicates of the tolerances established for the same commodities listed in 40 CFR 180.274(a)(1). The tolerances listed in 40 CFR 180.274(a)(2) should be removed because the duplicate tolerances found there are not needed.

Table 1.—Tolerance Reassessment Summary for Propanil Tolerances Currently Listed Under 40 CFR 180.247(a)(1)
Commodity | Current Tolerance (ppm) | Reassessed Tolerance (ppm) | Comment (Corrected Commodity Definition)
Barley, grain | .2 | 0.20 |
Barley, straw | .75 | 1.5 | Increased residues reflect new recovery procedures.
Cattle, fat | 0.1(N)¹ | 0.10 |
Cattle, mbyp | 0.1(N) | 1.0 | (Cattle, meat byproducts) Increased residues based on ruminant feeding studies and a revised dietary burden from residues in rice.
Cattle, meat | 0.1(N) | 0.05 | Decreased residues based on ruminant feeding studies and a revised dietary burden from residues in rice.
Eggs | 0.05(N) | 0.30 | (Egg) Increased residues based on ruminant feeding studies and a revised dietary burden from residues in rice.
Goats, fat | 0.1(N) | 0.10 | (Goat, fat)
Goats, mbyp | 0.1(N) | 0.80 | (Goat, meat byproducts) Increased residues based on ruminant feeding studies and a revised dietary burden from residues in rice.
Goats, meat | 0.1(N) | 0.05 | (Goat, meat) Decreased residues based on ruminant feeding studies and a revised dietary burden from residues in rice.
Hogs, fat | 0.1(N) | 0.10 | (Hog, fat)
Hogs, mbyp | 0.1(N) | 0.80 | (Hog, meat byproducts) Increased residues based on ruminant feeding studies and a revised dietary burden from residues in rice.
Hogs, meat | 0.1(N) | 0.05 | (Hog, meat) Decreased residues based on ruminant feeding studies and a revised dietary burden from residues in rice.
Horses, fat | 0.1(N) | 0.10 | (Horse, fat)
Horses, mbyp | 0.1(N) | 0.80 | (Horse, meat byproducts) Increased residues based on ruminant feeding studies and a revised dietary burden from residues in rice.
Horses, meat | 0.1(N) | 0.05 | (Horse, meat) Decreased residues based on ruminant feeding studies and a revised dietary burden from residues in rice.
Milk | 0.05(N) | 0.05 |
Oat, grain | .2 | 0.20 |
Oat, straw | .75 | 1.5 | Increased residues reflect new recovery procedures.
Poultry, fat | 0.1(N) | 0.05 | Decreased residues based on ruminant feeding studies and a revised dietary burden from residues in rice.
Poultry, mbyp | 0.1(N) | 0.50 | (Poultry, meat byproducts) Increased residues based on ruminant feeding studies and a revised dietary burden from residues in rice.
Poultry, meat | 0.1(N) | 0.10 |
Rice | 2 | 10 | (Rice, grain) Tolerances were increased since residues were found to concentrate when rice is processed.
Rice bran | 10 | 40 | (Rice, bran) Tolerances were increased since residues were found to concentrate when rice is processed.
Rice hulls | 10 | 30 | (Rice, hull) Tolerances were increased since residues were found to concentrate when rice is processed.
Rice mill fractions | 10 | Revoke | These items have been deleted from Table 1 of OPPTS GLN 860.1000.
Rice polishings | 10 | Revoke |
Rice, straw | 75(N) | 75 |
Sheep, fat | 0.1(N) | 0.10 |
Sheep, mbyp | 0.1(N) | 0.80 | (Sheep, meat byproducts) Increased residues based on ruminant feeding studies and a revised dietary burden from residues in rice.
Sheep, meat | 0.1(N) | 0.05 | Decreased residues based on ruminant feeding studies and a revised dietary burden from residues in rice.
Wheat, grain | 0.2 | 0.20 |
Wheat, straw | 0.75 | 1.5 | Increased residues reflect new recovery procedures.
¹(N) = negligible residues; however, the Agency is removing the “(N)” designation from all entries to conform to current Agency administrative practice.

Table 2.—Tolerance Reassessment Summary for Propanil Tolerances To Be Proposed Under 40 CFR 180.274(a)
Commodity | Current Tolerance (ppm) | Reassessed Tolerance (ppm) | Comment (Corrected Commodity Definition)
Barley, hay | None | To be determined¹ | The requested data for wheat, hay will be translated to barley, hay.
Crayfish | None | 0.05 |
Oat, forage | None | 0.20 | The available data for wheat, forage will be translated to oat, forage.
Oat, hay | None | To be determined¹ | The requested data for wheat, hay will be translated to oat, hay.
Wheat, forage | None | 0.20 |
Wheat, hay | None | To be determined¹ | Additional data are required.
¹The establishment of these tolerance(s) cannot be made at this time because additional data are required.

Table 3.—Tolerance Reassessment Summary for Propanil Tolerances Currently Listed Under 40 CFR 180.274(a)(2)
Commodity | Current Tolerance (ppm) | Reassessed Tolerance (ppm) | Comment (Corrected Commodity Definition)
Rice bran | 10 | Remove | These tolerances are not needed because they are inadvertent duplicate tolerances for rice commodities that already exist in 40 CFR 180.274(a)(1).
Rice hulls | 10 | Remove |
Rice mill fractions | 10 | Remove |
Rice polishings | 10 | Remove |

XI. Codex Harmonization

No Codex maximum residue levels (MRLs) have been established for propanil; therefore, issues of compatibility between Codex MRLs and U.S. tolerances do not exist.

List of Subjects

Environmental protection, Pesticides and pests, Risk assessment and tolerance reassessment.

Dated: May 20, 2002.
Lois A. Rossi,
Director, Special Review and Reregistration Division, Office of Pesticide Programs.

[FR Doc. 02-13809 Filed 6-4-02; 8:45 am]

BILLING CODE 6560-50-S